DEPARTMENT OF AGRICULTURE

Forest Service

Colville National Forest, LeClerc Creek Cattle Grazing Allotment; Withdrawal

AGENCY: Forest Service, Agriculture (USDA).

ACTION: Notice; withdrawal.

SUMMARY: The Forest Service is withdrawing its notice of intent to prepare an environmental impact statement (EIS) and the draft EIS for the LeClerc Creek Grazing Allotment Management Planning Project.

FOR FURTHER INFORMATION CONTACT: Questions concerning this notice should be directed to the Forest Supervisor, Joshua P. White, by email at joshua.white@usda.gov or by phone 509-684-7015. Individuals who use telecommunications devices for the hearing impaired may call 711 to reach the Telecommunications Relay Service, 24 hours a day, every day of the year, including holidays.

SUPPLEMENTARY INFORMATION: The Forest Service published a notice of intent (NOI) in the Federal Register on April 18, 2014, 79 FR 21892; a notice of availability (NOA) for the draft EIS on October 2, 2015, 80 FR 59775; an amended NOA to extend the comment period for the draft EIS on December 11, 2015, 80 FR 76980; a NOA for the final EIS on June 29, 2018, 83 FR 30730; and an amended NOA to withdraw the final EIS on July 2, 2018, 83 FR 31535. This withdrawal of the NOI and draft EIS is based on the timeline for this project.

Ellen Shultzabarger,
Associate Deputy Chief, National Forest System.

[FR Doc. 2025-10153 Filed 6-4-25; 8:45 am]

BILLING CODE 3411-15-P